DEPARTMENT OF THE INTERIOR

Bureau of Land Management

[LLNML0000 L16100000.DP0000]

Notice of Intent To Prepare an Amendment to the Mimbres Resource Management Plan and Associated Environmental Assessment for Possible Disposal of Public Land in Doña Ana County, Las Cruces, New Mexico

AGENCY: Bureau of Land Management, Interior.

ACTION: Notice.

SUMMARY: The Bureau of Land Management (BLM) Las Cruces District Office, New Mexico, intends to prepare a Resource Management Plan (RMP) Amendment with an associated Environmental Assessment (EA) to analyze the possible disposal by direct sale at fair market value of 339.89 acres of BLM-administered public land in Doña Ana County in southwestern New Mexico.

DATES: This notice initiates the 30-day public scoping period to identify relevant issues. The scoping period will also be announced through local news media and on the BLM Web site (http://www.blm.gov/nm/las cruces). The BLM will accept scoping comments for 30 days from the date of the publication of this notice.

ADDRESSES: You may submit comments by any of the following methods:

• Email: blm_nm_lcdo_comments@blm.gov.

• Fax: 575-525-4412, Attention: Kendrah Penn.

• Mail or personal delivery: Kendrah Penn, RMPA/EA Team Leader, BLM Las Cruces District Office, 1800 Marquess Street, Las Cruces, NM 88005.

Documents pertinent to this proposal may be examined at the Las Cruces District Office at the above address.

FOR FURTHER INFORMATION CONTACT: Kendrah Penn, Realty Specialist, at the above address, by telephone at 575-525-4382, or by email at kpenn@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Village of Hatch, New Mexico, has proposed to acquire 339.89 acres of BLM-administered land located adjacent to its industrial park. The land would be used as part of the industrial park and would give the Village of Hatch the ability to enhance its economic opportunities and provide for community expansion.

This document provides notice that the BLM Las Cruces District Office, Las Cruces, New Mexico, intends to prepare an RMP Amendment with an associated EA for the Mimbres Planning Area and announces the beginning of the scoping process and seeks public input on issues and planning criteria.

The BLM is currently considering disposal of public land in Doña Ana County, New Mexico. The public land proposed for disposal is currently identified for retention in Federal ownership in the 1993 Mimbres RMP. Therefore, the RMP must be amended to identify the public land as suitable for exchange and/or sale. The RMP Amendment will allow for direct sale of the land if all the criteria outlined by FLPMA is met and that is the alternative chosen by the BLM New Mexico State Director. The public land is a portion of and within the following area:

New Mexico Principal Meridian, New Mexico

T. 19 S., R. 4 W.,

Sec. 28, lots 1 to 3, lots 6 to 8, NE¼NE¼NE¼, W½NE¼NE¼, N½SE¼NE¼NE¼, W½NE¼, W½SE¼NE¼, W½E½W½NW¼SE¼, W½W½NW¼SE¼, W½NE¼NW¼SW¼SE¼, and NW¼NW¼SW¼SE¼.

The area described contains 339.89 acres. Any area described as a half (½) of a half (½) or a half (½) of a half (½) of a half (½) is based on the proper subdivision of section as per the Manual of Survey Instructions.

The purpose of the public scoping process is to determine relevant issues that will influence the scope of the environmental analysis, including alternatives, and guide the planning process. Preliminary issues for the planning area have been identified by BLM personnel, other agencies, and in meetings with individuals and user groups. These issues are:

1. Should public land be disposed of in order to promote economic opportunities and community expansion for the Village of Hatch, New Mexico?

2. What potential impacts would this proposed action have on the ability of the BLM to manage surrounding parcels of land?

3. What effects would this proposed action have on existing uses in the area?

4. What important public obectives will be served?

Proposed planning criteria include the following:

1. The RMP Amendment/EA process will be in compliance with the Federal Land Policy and Management Act, the National Environmental Policy Act, and applicable laws, regulations, and policies.

2. The land use plan amendment process will be governed by the planning regulations at 43 CFR part 1610 and the BLM Land Use Planning Handbook H-1601-1.

3. Lands affected by the proposed plan amendment only apply to public surface and mineral estate managed by the BLM. No decisions will be made relative to non-BLM-administered land or non-Federal minerals.

4. Public participation will be an integral part of the planning process.

5. The plan amendment will recognize all valid existing rights.

6. The RMP Amendment/EA will strive to be consistent with existing non-Federal plans and policies, provided the decisions in the existing plans are consistent with the purposes, policies, and programs of Federal laws, and regulations applicable to public lands. The RMP Amendment will consider present and potential uses of public land.

7. The RMP Amendment will consider impacts of uses on adjacent or nearby non-Federal lands and on non-Federal land surface over federally-owned minerals.

The BLM will evaluate identified issues to be addressed in the plan amendment and will place them into one of three categories:

1. Issues to be resolved in the plan amendment;

2. Issues to be resolved through policy or administrative action; or

3. Issues beyond the scope of this plan amendment.

The BLM will provide an explanation in the plan amendment as to why an issue was placed in category two or three. The public is also encouraged to help identify any management questions and concerns that should be addressed in the plan amendment.

The BLM will work collaboratively with interested parties to identify the management decisions that are best suited to local, regional, and national needs and concerns.

The BLM will use an interdisciplinary approach to develop the plan amendment to consider the variety of resource issues and concerns identified. Specialists with expertise in the following disciplines will be involved in the planning process: Minerals and geology, outdoor recreation, archaeology, paleontology, wildlife and fisheries, lands and realty, hydrology, soils, water and air.

The public may submit comments on issues and planning criteria in writing directly to the BLM using one of the methods listed in the ADDRESSES section above. Comments should be submitted within 30 days from the date of the publication of this notice.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Bill Childress,
District Manager, Las Cruces.

[FR Doc. 2013-14030 Filed 6-12-13; 8:45 am]

BILLING CODE 4310-FB-P